FEDERAL COMMUNICATIONS COMMISSION

47 CFR Part 73

[DA 09-1838; MB Docket No. 09-54; RM-11520]

Table of Allotments, FM Broadcast Stations; Waverly, Alabama

AGENCY: Federal Communications Commission.

ACTION: Final rule.

SUMMARY: The Audio Division, at the request of Auburn Network, Inc., LLC, substitutes FM Channel 262A for Channel 232A at Waverly, Alabama. Channel 262A can be allotted at Waverly, Alabama, in compliance with the Commission's minimum distance separation requirements with a site restriction of 13 kilometers (8.1 miles) northwest of Waverly. The coordinates for Channel 262A at Waverly, Alabama are 32-48-14 North Latitude and 85-41-28 West Longitude.

DATES: Effective November 16, 2009.

ADDRESSES: Secretary, Federal Communications Commission, 445 12th Street, SW, Washington, DC 20554.

FOR FURTHER INFORMATION CONTACT: Deborah A. Dupont, 202-418-2180.

SUPPLEMENTARY INFORMATION: This is a synopsis of the Commission's Report and Order, MB Docket 09-54, adopted August 19, 2009, and released August 21, 2009. The full text of this Commission document is available for inspection and copying during normal business hours in the FCC Reference Information Center (Room CY-A257), 445 12th Street, SW., Washington, DC. 20554.

The complete text of this decision may also be purchased from the Commission's copy contractor, Best Copy and Printing, Inc., 445 12th Street, SW, Room CY-B402, Washington, DC 20554, 800-378-3160 or via the company's website, http://www.bcpiweb.com.

This document does not contain information collection requirements subject to the Paperwork Reduction Act of 1995, Public Law 104-13. In addition, therefore, it does not contain any information collection burden ”for small business concerns with fewer than 25 employees,” pursuant to the Small Business Paperwork Relief Act of 2002, Public Law 107-198, see 44 U.S.C. 3506(c)(4).

Provisions of the Regulatory Flexibility Act of 1980 does not apply to this proceeding.

The Commission will send a copy of this Report and Order in a report to be sent to Congress and the Government Accountability Office pursuant to the Congressional Review Act, see U.S.C. 801(a)(1)(A).

List of Subjects in 47 CFR Part 73

Radio, Radio broadcasting.

As stated in the preamble, the Federal Communications Commission amends 47 CFR part 73 as follows:

PART 73—RADIO BRAODCAST SERVICES

1. The authority citation for Part 73 continues to read as follows:

Authority: 47 U.S.C. 154, 303, 334, 336.

Section 73.202 [Amended]

2. Section 73.202 (b), the Table of Allotments under Alabama is amended by removing Channel 232A and by adding Channel 262A at Waverly.

Federal Communications Commission
John A. Karousos,
Assistant Chief.

[FR Doc. E9-24942 Filed 10-15-09; 8:45 am]

BILLING CODE 6712-01-S